DEPARTMENT OF JUSTICE

Drug Enforcement Administration

Tin T. Win, M.D., Dismissal of Proceeding

On February 27, 2013, I, the Administrator of the Drug Enforcement Administration, issued an Order to Show Cause and Immediate Suspension of Registration to Tin T. Win, M.D. (hereinafter, Registrant), of Lake Havasu, Arizona. GX 10, at 1. Among various charges, the Order alleged that Registrant issued numerous controlled substance prescriptions after the Arizona Medical Board had prohibited her “from prescribing controlled substances” and thus violated both the Board's order and federal law. Id. at 1-3 (citing Ariz. Rev. Stat. § 32-1401(27)(r); 21 U.S.C. 841). The Order also notified Registrant of her right to either request a hearing on the allegations or submit a written statement of position in lieu of a hearing within thirty (30) days of her receipt of the Order, the procedure for electing either option, and the consequence of failing to elect either option.

On March 6, 2013, the Order was personally served on Registrant by a DEA Special Agent and a Diversion Investigator. See GX 11. On May 20, 2013, the Government filed a Request for Final Agency Action, which sought the revocation of Registrant's registration. Request for Final Agency Action, at 12. Therein, the Government represented that neither Registrant, nor anyone purporting to represent her, had filed either a request for a hearing or a written statement in lieu of a hearing. Id. at 2.

Upon review of the record, the Government's evidence showed that Registrant's registration was due to expire on May 31, 2013. See GX 2. However, because the filing of a timely renewal application would have prevented the expiration of her registration (albeit in suspended status), see 5 U.S.C. 556(e), I took official notice of her registration record with the Agency. According to that record, Registrant did not file either a renewal application or a new application. The Agency therefore deemed her registration as expired and retired her registration number.

While ordinarily these findings render a case moot, see Ronald J. Riegel, 63 FR 67132, 67133 (1998), simultaneously with the issuance of the Order to Show Cause, I immediately suspended Registrant's registration. Because the Immediate Suspension Order also authorized the Government to seize any controlled substances in Registrant's possession, and thus created the possibility that a collateral consequence existed which precludes a finding of mootness, see Robert Charles Ley, 76 FR 20033, 20034 (2011), I directed the Government to notify my Office as to whether it had seized any controlled substances. Order (July 15, 2013).

On July 22, 2013, the Government notified my Office that it had not seized any controlled substances pursuant to the Immediate Suspension Order. Gov. Response Regarding Mootness, at 2. The Government further acknowledged that this “case is now moot.” Id. Accordingly, I will dismiss this proceeding. See Ley, 76 FR at 20034.

Order

Pursuant to the authority vested in me by 21 U.S.C. 824(a), as well as 28 CFR 0.100(b), I order that the Order to Show Cause and Immediate Suspension of Registration issued to Tin T. Win, M.D., be, and it hereby is, dismissed. This Order is effective immediately.

Dated: August 16, 2013.
Michele M. Leonhart,
Administrator.

[FR Doc. 2013-20676 Filed 8-23-13; 8:45 am]

BILLING CODE 4410-09-P